DEPARTMENT OF LABOR

Employment and Training Administration

[TA-W-63,659]

Unilever Illinois Manufacturing, LLC, Food Solutions Division, Including On-Site Leased Workers of Manpower, Account Resources and Intertech, Franklin Park, IL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on July 17, 2008, applicable to workers of Unilever Illinois Manufacturing, LLC, Food Solutions Division, Franklin Park, Illinois. The notice was published in the Federal Register on July 30, 2008 (73 FR 44284).

At the request of a company official, the Department reviewed the certification for workers of the subject firm. The workers are engaged in the production of commercial soup bases.

New information shows that leased workers of Manpower, Account Resources and InterTech were employed on-site at the Franklin Park, Illinois location of Unilever Illinois Manufacturing, LLC, Food Solutions Division. The Department has determined that these workers were sufficiently under the control of Unilever Illinois Manufacturing, LLC, Food Solutions Division to be considered leased workers.

Based on these findings, the Department is amending this certification to include leased workers of Manpower, Account Resources and InterTech working on-site at the Franklin Park, Illinois location of the subject firm.

The intent of the Department's certification is to include all workers employed at Unilever Illinois Manufacturing, LLC, Food Solutions Division, Franklin Park, Illinois who were adversely affected by a shift in production of commercial soup bases to Canada.

The amended notice applicable to TA-W-63,659 is hereby issued as follows:

“All workers of Unilever Illinois Manufacturing, LLC, Food Solutions Division, including on-site leased workers of Manpower, Account Resources and InterTech, Franklin Park, Illinois, who became totally or partially separated from employment on or after July 9, 2007, through July 17, 2010, are eligible to apply for adjustment assistance under Section 223 of the Trade Act of 1974, and are also eligible to apply for alternative trade adjustment assistance under Section 246 of the Trade Act of 1974.”

Signed at Washington, DC, this 5th day of August 2008.
Linda G. Poole,
Certifying Officer, Division of Trade Adjustment Assistance.

[FR Doc. E8-18587 Filed 8-11-08; 8:45 am]

BILLING CODE 4510-FN-P